DEPARTMENT OF TRANSPORTATION

Federal Railroad Administration

[Docket Number FRA-2014-0079]

Notice of Application for Approval of Discontinuance or Modification of a Railroad Signal System

In accordance with Title 49 Code of Federal Regulations Part 235 and 49 U.S.C. 20502(a), this document provides the public notice that by a document dated July 14, 2014, Watco Companies LLC (Watco), as the owner and operator of the Blue Ridge Southern Railroad LLC (BLU), has petitioned the Federal Railroad Administration (FRA) seeking approval for the discontinuance or modification of a signal system. FRA assigned the petition Docket Number FRA-2014-0079.

Applicant: Watco Companies LLC, Mr. Anthony Cox, Vice President of Engineering, 315 East Third Street, Pittsburg, KS 66762.

Watco seeks approval of the proposed discontinuance of the automatic block signal system, between Asheville, Milepost (MP) 1.00, and East Naples, NC, MP 14.7.

The reason given for the proposed changes is that train traffic is expected to be light on this section of track with only one train per day using the line, with no increases in train traffic in the foreseeable future.

A copy of the petition, as well as any written communications concerning the petition, is available for online review at: www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except on Federal Holidays.

Communications received by October 14, 2014 will be considered by FRA before final action is taken. Comments received after that date will be considered, as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on August 25, 2014.
Ron Hynes,
Director, Office of Safety Assurance and Compliance.

[FR Doc. 2014-20511 Filed 8-27-14; 8:45 am]

BILLING CODE 4910-06-P